DEPARTMENT OF COMMERCE

Office of the Under Secretary of Economic Affairs

Agency Information Collection Activities; Submission to the Office of Management and Budget (OMB) for Review and Approval; Comment Request; Concrete Masonry Products Research, Education, and Promotion Voter Registration and Ballot Forms; Correction

AGENCY: Office of the Under Secretary for Economic Affairs, Department of Commerce.

ACTION: Notice; correction.

SUMMARY: On May 16, 2024, the Department of Commerce published a 30-day public comment period notice in the Federal Register seeking public comments for an information collection entitled, “Concrete Masonry Products Research, Education, and Promotion Voter Registration and Ballot Forms.” This document referenced incorrect information in the Agency: Bureau of Economic Analysis, Department of Commerce Section, and Commerce hereby issues a correction notice as required by the Paperwork Reduction Act of 1995.

FOR FURTHER INFORMATION CONTACT: Requests for additional information or specific questions related to collection activities should be directed to Kenneth White, Senior Policy Analyst, Under Secretary of Economic Affairs, U.S. Department of Commerce; by phone at (202) 482-2406 or via email at kwhite2@doc.gov.

SUPPLEMENTARY INFORMATION:

Correction

In the Federal Register of May 16, 2024, at 89 FR 42836 in the first column, FR Document 2024-10710, correct the agency line to read:

Agency: Office of the Under Secretary of Economic Affairs, Department of Commerce.

Request for Comments

This information collection request may be viewed at www.reginfo.gov. Follow the instructions to view the Department of Commerce collections currently under review by OMB.

Written comments and recommendations for the proposed information collection should be submitted by June 14, 2024, of the publication of this notice on the following website www.reginfo.gov/public/do/PRAMain. Find this particular information collection by selecting “Currently under 30-day Review—Open for Public Comments” or by using the search function and entering either the title of the collection or the OMB Control Number 0605-0029.

Sheleen Dumas,
Department PRA Clearance Officer, Office of the Under Secretary for Economic Affairs, Commerce Department.

[FR Doc. 2024-12666 Filed 6-7-24; 8:45 am]

BILLING CODE 3510-06-P